DEPARTMENT OF THE TREASURY

Internal Revenue Service

26 CFR Part 1

[TD 9222]

RIN 1545-BD49

Guidance Under Section 951 for Determining Pro Rata Share; Correction

AGENCY: Internal Revenue Service (IRS), Treasury.

ACTION: Correction to final regulations.

SUMMARY: This document corrects final regulations (TD 9222) that were published in the Federal Register on Thursday, August 25, 2005 (70 FR 49864).

The final regulations under section 951(a) of the Internal Revenue Code (Code) provide guidance for determining a United States shareholder's pro rata share of a controlled foreign corporation's (CFC's) subpart F income, previously excluded subpart F income withdrawn from investment in less developed countries, and previously excluded subpart F income withdrawn from foreign base company shipping operations.

DATES: This correction is effective August 25, 2005.

FOR FURTHER INFORMATION CONTACT: Jeffrey L. Vinnik, (202) 622-3840 (not a toll-free number).

SUPPLEMENTARY INFORMATION:

Background

The final regulations (TD 9222) that are the subject of this correction are under section 951(a) of the Internal Revenue Code.

Need for Correction

As published, the final regulations (TD 9222) contain an error that may prove to be misleading and is in need of clarification.

Correction of Publication

Accordingly, the publication of the final regulations (TD 9222), which was the subject of FR Doc. 05-16611, is corrected as follows:

On page 49864, column 2, in the preamble under the paragraph heading, “A. Amounts Determined Under Section 956 of the Code” second paragraph, line 4, the language “to section 956 under § 1.951-(1)(e).” is corrected to read “to section 956 under § 1.951-1(e).”.

Cynthia E. Grigsby,
Acting Chief, Publications and Regulations Branch, Legal Processing Division, Associate Chief Counsel, (Procedure and Administration).

[FR Doc. 05-22262 Filed 11-8-05; 8:45 am]

BILLING CODE 4830-01-P